DEPARTMENT OF TRANSPORTATION

Surface Transportation Board

[Finance Docket No. 34079]

San Jacinto Rail Limited—Construction Exemption—and the Burlington Northern and Santa Fe Railway Company—Operation Exemption—Build-Out to the Bayport Loop Near Houston, Harris County, TX

AGENCIES: Lead: Surface Transportation Board. Cooperating: U.S. Coast Guard, Federal Aviation Administration, National Aeronautics and Space Administration.

ACTION: Notice of availability of Draft Environmental Impact Statement and notice of public meetings.

SUMMARY: On August 30, 2001, San Jacinto Rail Limited (SJRL) and the Burlington Northern and Santa Fe Railway (BNSF) (referred to collectively as the Applicants) filed a petition with the Surface Transportation Board (Board) pursuant to 49 U.S.C. 10502 for authority for construction by SJRL and operation by BNSF of a new rail line near Houston, Harris County, Texas. The project, known as the Bayport Loop Build-Out, would involve construction of approximately 12.8 miles of new rail line to serve the petro-chemical industries in the Bayport Industrial District (Bayport Loop). The Proposed Action includes rail operations to and from the new rail line near Ellington Field over trackage rights on Union Pacific Railroad Company's (UP's) GH&H line and UP's East Belt, Terminal, Lafayette, and Baytown Subdivisions to the storage yard operated by CMC Railroad at Dayton, approximately 30 miles east of Houston. The project would require actions by several Federal agencies, including the Board, the U.S. Coast Guard (USCG), and the National Aeronautics and Space Administration (NASA), and may require actions by the Federal Aviation Administration (FAA).

The Board, through its Section of Environmental Analysis (SEA) and in cooperation with USCG, FAA, and NASA, has published a Draft Environmental Impact Statement (Draft EIS) for the Bayport Loop Build-Out Project. This Draft EIS is an analysis of the potential environmental impacts of the Applicants' proposal and its reasonable and feasible alternatives, including the No-Action Alternative. The Build Alternatives, which are the Alternatives involving construction, would cause moderate wetland, surface water, and biological impacts. SEA recommends that the Board impose the Applicants' proposed voluntary mitigation measures as a condition of petition approval. The mitigation measures address these moderate impacts as well as a range of additional issues of interest to the community. The Proposed Action and Alternatives would cause negligible effects on all other impact areas. SEA invites public and agency comments on all aspects of the Draft EIS. Comments must be faxed or postmarked by the close of the comment period, which is January 27, 2003. Information on how to submit comments is set forth below.

SEA, working with the three cooperating agencies, will make its final recommendations on the project, including environmentally preferable alternative(s) and environmental mitigation, to the Board in the Final EIS, after considering all public comments on the Draft EIS. The Final EIS will be issued after public comments have been received, reviewed, and fully evaluated. Notice of availability of the Final EIS will be published in the Federal Register.

Following issuance of the Final EIS, the Board will make its final decision regarding this project and any environmental conditions it might impose. In reaching its final decision in this proceeding, the Board will take into account the full environmental record, including the Draft EIS, the Final EIS, and all public and agency comments received. The cooperating agencies will issue their decisions based on the same environmental record.

FOR FURTHER INFORMATION CONTACT: Ms. Dana White, SEA Project Manager, toll-free at 1-888-229-7857 (TDD for the hearing impaired 1-800-877-8339). The Web site for the Surface Transportation Board is www.stb.dot.gov.

Mr. Phil Johnson, U.S. Coast Guard, (504) 589-2965.

Ms. Nan Terry, Federal Aviation Administration, (817) 222-5607.

Ms. Perri Fox, National Aeronautics and Space Administration, (281) 483-3157.

SUPPLEMENTARY INFORMATION: Floodplains Notification: As required by Executive Order 11988 (Floodplain Management), SEA is providing Notice that the Proposed Action would involve new construction in a floodplain. SEA's preliminary determination is that floodplains along Horsepen Bayou, Armand Bayou, Spring Gully, Big Island Slough, and Taylor Bayou and various unnamed tributaries and flood control channels could not be avoided by the Proposed Action or the other Build Alternatives because of the linear nature of the proposed project. SEA has also determined that the floodplain impacts would be similar for the Proposed Action and the other Build Alternatives.

The Proposed Action would not cause an adverse effect or incompatible development in a floodplain because the facility would be designed, constructed, and maintained to accommodate flood flows and minimize impacts to floodplains. The proposed design would include properly sized, sited, constructed, and maintained bridges and culverts, and new drainage ditches on both sides of the rail bed along most of the alignment. The floodways along Horsepen Bayou, Armand Bayou, Big Island Slough, and Spring Gully and the main channel of Taylor Bayou would be spanned by bridges. In addition, the design and specifications for bridges, culverts, channels, and related structures would satisfy Harris County Flood Control District requirements. All bridge crossings would accommodate flood flows from the 24-hour, one-percent probability storm and would conform to all applicable design standards required by the National Flood Insurance Program. The design of crossings of flood control channels or connections to drainage channels would require approval from the Engineering Division and the Flood Control Division of the Harris County Public Infrastructure Department.

Wetlands Finding and Notification: As required by Executive Order 11990 (Protection of Wetlands), the FAA and NASA are providing Notice that the Proposed Action and the other Build Alternatives would involve new construction in wetlands. The FAA and NASA have reached a preliminary determination that construction in wetlands could not be avoided because of the linear nature of the proposed project. The Proposed Action and the other Build Alternatives include all practicable measures to avoid and minimize harm to wetlands. In addition, the Applicants have proposed a conceptual mitigation plan to compensate for the unavoidable impacts to wetlands, which includes restoration, creation, and preservation of wetlands.

Joint 404/401 Permit Application: The Applicants have submitted a Joint Permit Application under Section 404/401 of the Clean Water Act to the U.S. Army Corps of Engineers (USACE). The USACE will issue a Public Notice on the Joint Permit Application. For information on the Applicants' Joint Permit Application contact: John Machol, U.S. Army Corps of Engineers, Regulatory Branch, CESWG-PE-R, Jadwin Building, 2000 Fort Point Road, Galveston, TX 77550.

Public Availability: The entire Draft EIS is available on the Board's Web site (http://www.stb.dot.gov) in a downloadable format by clicking on the “Decisions & Notices” button and searching by Service date or Docket Number. The Draft EIS will be listed as an Environmental Review under the “TYPE” category. Because of the size of the document, distribution of the entire Draft EIS has been limited to governmental agencies, elected officials, community groups, and parties of record. This Notice of Availability has been distributed to over 1,000 other interested parties, including private citizens.

SEA has also distributed the Draft EIS to the repositories listed below and asked that the entire Draft EIS be made publicly available in their reference section. A Spanish translation of the Executive Summary of the Draft EIS will also be available at the repositories. Copies of the Draft EIS in hardcopy or on CD-ROM and the Executive Summary translation are also available by calling the toll-free number at 1-888-229-7857.

San Jacinto College, Central Campus Library

8060 Spencer Highway, Pasadena, TX 77505, (281) 476-1850.

San Jacinto College, North Campus Library

5800 Uvalde Street, Houston, TX 77015, (281) 459-7116.

San Jacinto College, South Campus

13735 Beamer Road, Houston, TX 77089, (281) 922-3416.

University of Houston, Clear Lake Campus, Alfred Neumann Library

2700 Bay Area Boulevard, Houston, TX 77058, (281) 283-3930.

Freeman Memorial Branch Library

16602 Diana Lane, Houston, TX 77062, (281) 488-1906.

Harris County Public Library, Evelyn Meador Branch

2400 N. Meyer Road, Seabrook, TX 77586, (281) 474-9142.

Harris County Public Library, South Houston Branch

607 Avenue A, South Houston, TX 77587, (713) 941-2385.

Pasadena Public Library, Fairmont Branch

4330 Fairmont Parkway, Pasadena, TX 77504, (713) 998-1095.

Pasadena Public Library, Main Branch

1201 Jeff Ginn Memorial, Pasadena, TX 77506, (713) 477-0276.

Deer Park Public Library

3009 Center Street, Deer Park, TX 77536-7099, (281) 478-7208.

Houston

500 McKinney Avenue, Houston, TX 77002, (713) 247-2222.Public Library

Park Place Regional Library

8145 Park Place Boulevard, Houston, TX 77017, (832) 393-1970.

Patricio Flores Library

110 North Milby Street, Houston, TX 77003, (832) 393-1780.

Melcher Branch Library

7200 Keller, Houston, Texas 77012, (832) 393-2480.

Bracewell Branch Library

10115 Kleckley, Houston, Texas 77075, (832) 393-2580.

Tuttle Branch Library

702 Kress, Houston, Texas 77020, (832) 393-2100.

Stanaker Branch Library

611 S/Sgt. Macario Garcia, Houston, Texas 77011, (832) 393-2080.

Liberty Municipal Library

Geraldine D. Humphreys Cultural Center, 1710 Sam Houston Avenue, Liberty, TX 77575, (936) 336-8091.

Sam Houston Regional Library

Archives & Information Services, FM 1011, Liberty, TX 77575, (936) 336-9921.

Dayton Library

307 West Houston, Dayton, TX 77535, (936) 258-7060.

Crosby Branch Library

135 Hare Road, Crosby, TX 77532-8895, (281) 328-3535.

Lee College Library

15010 FM 2100 Road, Crosby, TX 77532, (281) 328-1111.

Austin Memorial Library

220 South Bonham, Cleveland, TX 77327, (281) 592-3920.

Kingwood Branch Library

4102 Rustic Woods Drive, Kingwood, TX 77345, (281) 360-6804.

Kingwood College Library

20000 Kingwood Drive, Kingwood, TX 77339, (281) 312-1693.

Public Comment: Written comments on the Draft EIS must be postmarked or faxed by January 27, 2003. The public and any interested parties are encouraged to make written comments on all aspects of this Draft EIS. SEA will consider all comments in preparing the Final EIS and the Final EIS will respond to all substantive comments. When submitting comments on the Draft EIS, please be as specific as possible and substantiate your concerns and recommendations. Please mail written comments to: Surface Transportation Board, 1925 K Street, NW., Washington, DC 20423-0001,

To ensure proper handling of your comments, please mark your submission: Attention: Dana White, Section of Environmental Analysis, Environmental Filing FD No. 34079.

Due to delays in the delivery of mail currently being experienced by Federal agencies in Washington, DC, SEA encourages that comments be faxed to 1-866-293-4979. Faxed comments will be given the same weight as mailed comments; therefore, persons submitting comments by fax do not have to also send comments by mail.

Further information about the project can be obtained by calling SEA's toll-free number at 1-888-229-7857 (TDD for the hearing impaired 1-800-877-8339).

Public Meetings: In addition to receiving written comments, SEA will host two public meetings on the Draft EIS. At each meeting, SEA will give a brief presentation and interested parties will be invited to make oral comments. SEA will have a transcriber present to record the oral comments in either English or Spanish. Written comments may also be submitted at the meetings. Meetings will be held at the following locations, dates, and times:

Pasadena Convention Center, 7902 Fairmont Parkway, Pasadena, TX, January 14, 2003, 7—9 p.m.

Cesar E. Chavez High School, 8501 Howard Drive, Houston, TX, January 15, 2003, 7—9 p.m.

Both meetings will follow the same format and agenda; it is not necessary to attend both meetings.

Pre-Registration for Public Meetings: Persons wanting to speak at a public meeting are strongly urged to pre-register by calling the toll-free Environmental Hotline for this project at 1-888-229-7857 (TDD for the hearing impaired 1-800-877-8339) and leaving their name, telephone number, the name of any group, business, or agency affiliation, if applicable, and the date of the meeting at which they wish to speak. The deadline for pre-registration for all meetings is January 7, 2003.

Persons will be called to speak at each meeting in the order in which they pre-registered. Those wishing to speak who did not pre-register will be accommodated at each meeting as time allows. Those wishing to speak at more than one meeting will also be accommodated as time allows and after all others have had an opportunity to participate. As SEA would like as many persons as possible to participate and given that there will be a limited amount of time at each meeting, all speakers are strongly encouraged to prepare summary oral comments, and submit detailed comments in writing. SEA also encourages groups of individuals with similar comments to designate a representative to speak for them. A translator will be available at both meetings for Spanish-speakers wishing to speak.

The Web site for the Surface Transportation Board is www.stb.dot.gov.

Decided: November 20, 2002.
By the Board, Victoria Rutson, Chief, Section of Environmental Analysis.
Vernon A. Williams,
Secretary.

[FR Doc. 02-30907 Filed 12-5-02; 8:45 am]

BILLING CODE 4915-00-P